DEPARTMENT OF HEALTH AND HUMAN SERVICES

Administration for Children and Families

Submission for OMB Review; Comment Request

Title: Social Services Block Grant (SSBG) Post-expenditure Report.

OMB No.: 0970-0234.

Description

Purpose: To request approval to: (1) Reinstate and extend the collection of post-expenditure data using the current OMB approved post-expenditure reporting form (OMB No. 0970-0234) past the current expiration date of July 1, 2014; and (2) to request that States continue to voluntarily submit estimated pre-expenditure and recipient data using the post-expenditure reporting form, as part of the required annual intended use plan.

The Social Services Block Grant program (SSBG) is authorized under Title XX of the Social Security Act, as amended, and is codified at 42 U.S.C. 1397 through 13097e. SSBG provides funds to assist States in delivering critical services to vulnerable older adults, persons with disabilities, at-risk adolescents and young adults, and children and families. SSBG funds are allocated to each State in proportion to their relative population.

Each State is responsible for designing and implementing its own SSBG program to meet the specialized needs of their most vulnerable populations. States may determine what services will be provided, who will be eligible, and how funds will be distributed among the various services. State or local SSBG agencies (i.e., county, city, regional offices) may provide the services or States may purchase services from qualified agencies, organizations, or individuals. States must administer their SSBG program according to their approved intended use plan, along with amendments, and in conformance with their own implementing rules and policies. The Office of Community Services (OCS), Administration for Children and Families administers the SSBG program.

Annually, States are required to submit a pre-expenditure report or intended use plan as a prerequisite to receiving SSBG funds. The pre-expenditure report must include information on the types of services to be supported and the characteristics of individuals to be served. This report is to be submitted 30 days prior to the start of the fiscal year (June 1 if the State operates on a July-June fiscal year, or September 1 if the State operates on a Federal fiscal year). No specific format is required for the intended use plan. States are required to submit a revised intended use plan if the planned use of SSBG funds changes during the year (42 U.S.C. 1397c).

In order to provide a more accurate analysis of the extent to which funds are spent “in a manner consistent” with each of the States plan for their use, as required by 42 U.S.C. 1397e(a), ACF continues to request that States voluntarily use the format of the post-expenditure reporting form to provide estimates of the amount of expenditures and the number of recipients, by service category, as part of the State's intended use plan. Most of the States are currently using the format of the post-expenditure reporting form to report estimated expenditures and recipients, by service category, as part of their intended use plan.

On annual basis, States also are required to submit a post-expenditure report that details their use of SSBG funds in each of 29 service categories. States are required to submit their post-expenditure report within six months of the end of the period covered by the report. The post-expenditure report must address: (1) The number of individuals (including number of children and number of adults) who receive services paid for, in whole or in part, with Federal funds under the SSBG; (2) The amount of SSBG funds spent in providing each service; (3) The total amount of Federal, State, and local funds spent in providing each service, including SSBG funds; and (4) The method(s) by which each service is provided, showing separately the services provided by public and private agencies (42 U.S.C. 1397e; 42 CFR 96.74).

This request seeks approval to reinstate and continue the use of the current OMB approved post-expenditure reporting form (OMB No. 0970-0234) for estimating expenditures and recipients as part of States' intended use plans and for annual post-expenditure reporting. Until recently, States reported the data on the post-expenditure reporting form in Microsoft Excel™ and submitted it to ACF, via email. Beginning in 2013, States can complete the current reporting form on the SSBG Portal. The SSBG Portal is a secure web-based data portal. The SSBG Portal allows for more efficient data submission without increasing the overall burden on States. It provides a user-friendly means for States to submit and access their pre-expenditure and post-expenditure and recipient data.

Information collected in the post-expenditure reports submitted by States is analyzed and described in an annual report on SSBG expenditures and recipients produced by the Office of Community Services (OCS), Administration for Children and Families (ACF). The information contained in this report is used for program planning and management. The data establish how SSBG funding is used for the provision of services in each State to each of the many specific populations of vulnerable children and adults.

The data is also analyzed to determine the performance of States' in meeting the SSBG program performance measures developed to meet the requirements of the Government Performance and Results Act of 1993(GPRA), as amended by the GPRA Modernization Act of 2010.¹ GPRA requires all Federal agencies to develop measurable performance goals.

¹ Pub. L. 11-352; 31 U.S.C. 1115(b)(10).

The SSBG program currently has an administrative costs efficiency measure which is intended to decrease the percentage of SSBG funds identified as administrative costs in the post-expenditure reports.² The SSBG program is also implementing a new performance measure designed to ensure that SSBG funds are spend effectively and efficiently while maintaining the program's intrinsic flexibility as a block grants. The performance measure will assess the degree to which States spend SSBG funds in a manner consistent with their intended use, as required by Federal law.³ It will be used to determine how well States are doing overall in minimizing variance between projected and actual expenditures of SSBG funds. This program measure will be fully implemented for SSBG program data submitted for fiscal year 2013.

² U.S. Department of Health and Human Services, Administration for Children and Families, Office of Community Services. (2007, June). Implementing a new performance measure to enhance efficiency (Information Memorandum Transmittal No. 04-2007). Available from http://archive.acf.hhs.gov/programs/ocs/ssbg/procedures/ssbg_im_04_2007.html.

³ 42. U.S.C. 1397e(a); U.S. Department of Health and Human Services, Administration for Children and Families, Office of Community Services. (2012, February). Implementation of a new performance measure (Information Memorandum Transmittal No. 01-2012). Available from http://www.acf.hhs.gov/programs/ocs/resource/implementation-of-a-new-performance-measure.

Respondents: The post-expenditure reporting form and intended use plan are completed once annually by a representative of the agency that administers the Social Services Block Grant at the State level in each State. Respondents include the 50 States, the District of Columbia, and Puerto Rico.

Annual Burden Estimates
Instrument | Number of respondents * | Number of responses per respondent | Average burden hours per response | Total burden hours
Post-Expenditure Reporting Form | 56 | 1 | 110 | 6,160
Use of Post-Expenditure Reporting Form as Part of the Intended Use Plan | 56 | 1 | 2 | 112
Estimated Total Annual Burden Hours: |  |  |  | 6,272
* Respondents include the 50 States, the District of Columbia, Puerto Rico, Guam, American Samoa, Northern Mariana Islands, and Virgin Islands.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-20178 Filed 8-25-14; 8:45 am]

BILLING CODE 4184-01-P